DEPARTMENT OF ENERGY

Federal Energy Regulatory Commission

Combined Notice Of Filings #1

Take notice that the Commission received the following electric corporate filings:

Docket Numbers: EC11-121-000.

Applicants: Alta Wind I, LLC, Alta Wind II, LLC, Alta Wind III, LLC, Alta Wind IV, LLC, Alta Wind V, LLC, Alta Wind VI, LLC, Alta Wind VIII, LLC, Alta Windpower Development, LLC.

Description: Application for Authorization for Disposition of Jurisdictional Facilities and Request for Expedited Action of Alta Wind I, LLC, et al.

Filed Date: 09/28/2011.

Accession Number: 20110928-5165.

Comment Date: 5 p.m. Eastern Time on Wednesday, October 19, 2011.

Take notice that the Commission received the following electric rate filings:

Docket Numbers: ER10-2441-001.

Applicants: Central Vermont Public Service Corporation.

Description: Notice of Change in Status of Central Vermont Public Service Corporation.

Filed Date: 09/28/2011.

Accession Number: 20110928-5180.

Comment Date: 5 p.m. Eastern Time on Wednesday, October 19, 2011.

Docket Numbers: ER11-3262-003.

Applicants: Trans Bay Cable LLC.

Description: Trans Bay Cable LLC submits tariff filing per 35: Compliance Filing for Corrected Title Page to be effective 9/28/2011.

Filed Date: 09/28/2011.

Accession Number: 20110928-5161.

Comment Date: 5 p.m. Eastern Time on Wednesday, October 19, 2011.

Docket Numbers: ER11-4386-001.

Applicants: AmericaWide Energy, LLC.

Description: AmericaWide Energy, LLC submits tariff filing per 35.17(b): Amendment to Market-Based Rate Application to be effective 11/1/2011.

Filed Date: 09/29/2011.

Accession Number: 20110929-5040.

Comment Date: 5 p.m. Eastern Time on Thursday, October 20, 2011.

Docket Numbers: ER11-4673-000.

Applicants: Air Liquide Large Industries U.S. LP.

Description: Air Liquide Large Industries U.S. LP submits tariff filing per 35.1: Market-Based Rate Tariff to be effective 9/28/2011.

Filed Date: 09/28/2011.

Accession Number: 20110928-5127.

Comment Date: 5 p.m. Eastern Time on Wednesday, October 19, 2011.

Docket Numbers: ER11-4674-000.

Applicants: Midwest Independent Transmission System Operator, Inc.

Description: Midwest Independent Transmission System Operator, Inc. submits tariff filing per 35.13(a)(2)(iii: Vectren-IMPA Facilities Connection Agreement to be effective 9/29/2011.

Filed Date: 09/28/2011.

Accession Number: 20110928-5146.

Comment Date: 5 p.m. Eastern Time on Wednesday, October 19, 2011.

Docket Numbers: ER11-4675-000.

Applicants: Florida Power & Light Company

Description: Florida Power & Light Company submits tariff filing per 35.13(a)(2)(iii: FPL and City of Vero Beach First Revised Service Agreement No. 264 to be effective 10/1/2011.

Filed Date: 09/28/2011.

Accession Number: 20110928-5153.

Comment Date: 5 p.m. Eastern Time on Wednesday, October 19, 2011.

Docket Numbers: ER11-4676-000.

Applicants: Puget Sound Energy, Inc.

Description: Puget Sound Energy, Inc. submits tariff filing per 35.12: Residential Exchange Program Settlement Implementation Agreemt Rate Schedule 620 to be effective 10/1/2011.

Filed Date: 09/28/2011.

Accession Number: 20110928-5156.

Comment Date: 5 p.m. Eastern Time on Wednesday, October 19, 2011.

Docket Numbers: ER11-4677-000.

Applicants: NextEra Energy Montezuma II Wind, LLC.

Description: NextEra Energy Montezuma II Wind, LLC submits tariff filing per 35.12: NextEra Energy Montezuma II Wind, LLC Market-Based Rate Tariff to be effective 10/1/2011.

Filed Date: 09/28/2011.

Accession Number: 20110928-5160.

Comment Date: 5 p.m. Eastern Time on Wednesday, October 19, 2011.

Docket Numbers: ER11-4678-000.

Applicants: Vasco Winds, LLC.

Description: Vasco Winds, LLC submits tariff filing per 35.12: Vasco Winds, LLC Market-Based Rate Tariff to be effective 10/1/2011.

Filed Date: 09/28/2011.

Accession Number: 20110928-5162.

Comment Date: 5 p.m. Eastern Time on Wednesday, October 19, 2011.

Docket Numbers: ER11-4679-000.

Applicants: ITC Midwest LLC.

Description: ITC Midwest LLC submits tariff filing per 35.13(a)(2)(iii: Filing of Pole Attachment Agreement to be effective 9/28/2011.

Filed Date: 09/29/2011.

Accession Number: 20110929-5026.

Comment Date: 5 p.m. Eastern Time on Thursday, October 20, 2011.

Docket Numbers: ER11-4680-000.

Applicants: SIG Energy, LLLP.

Description: SIG Energy, LLLP submits tariff filing per 35.1: Baseline Filing to be effective 9/30/2011.

Filed Date: 09/29/2011.

Accession Number: 20110929-5046.

Comment Date: 5 p.m. Eastern Time on Thursday, October 20, 2011.

Docket Numbers: ER11-4681-000.

Applicants: Energy Consulting Services, LLC.

Description: Energy Consulting Services, LLC submits tariff filing per 35.12: ECS MBRA Baseline eTariff to be effective 9/30/2011.

Filed Date: 09/29/2011.

Accession Number: 20110929-5047

Comment Date: 5 p.m. Eastern Time on Thursday, October 20, 2011.

Docket Numbers: ER11-4682-000.

Applicants: Kuehne Chemical.

Description: Kuehne Chemical submits tariff filing per 35.12: Kuehne Chemical Company MBRA Baseline eTariff to be effective 9/30/2011.

Filed Date: 09/29/2011.

Accession Number: 20110929-5048.

Comment Date: 5 p.m. Eastern Time on Thursday, October 20, 2011.

Docket Numbers: ER11-4683-000.

Applicants: Elizabethtown Energy, LLC.

Description: Elizabethtown Energy, LLC submits tariff filing per 35.1: Elizabethtown Energy LLC Baseline MBR Filing to be effective 9/29/2011.

Filed Date: 09/29/2011.

Accession Number: 20110929-5050.

Comment Date: 5 p.m. Eastern Time on Thursday, October 20, 2011.

Docket Numbers: ER11-4684-000.

Applicants: Lumberton Energy, LLC

Description: Lumberton Energy, LLC submits tariff filing per 35.1: Lumberton Energy LLC Baseline MBR Filing to be effective 9/29/2011.

Filed Date: 09/29/2011.

Accession Number: 20110929-5051.

Comment Date: 5 p.m. Eastern Time on Thursday, October 20, 2011.

Docket Numbers: ER11-4685-000.

Applicants: KEB Trading LLC.

Description: KEB TRADING LLC submits a notice of cancellation.

Filed Date: 09/28/2011.

Accession Number: 20110928-0021.

Comment Date: 5 p.m. Eastern Time on Wednesday, October 19, 2011.

Docket Numbers: ER11-4686-000.

Applicants: Goldfinch Capital Management, LP.

Description: Goldfinch Capital Management, LP submits tariff filing per 35.1: Goldfinch Capital Baseline Tariff Filing—Clone to be effective 9/29/2011.

Filed Date: 09/29/2011.

Accession Number: 20110929-5059.

Comment Date: 5 p.m. Eastern Time on Thursday, October 20, 2011.

Docket Numbers: ER11-4687-000.

Applicants: Arizona Public Service Company.

Description: Arizona Public Service Company submits tariff filing per 35.13(a)(2)(iii: Amendment to Service Agreement No. 215, Interconnection Agreement to be effective 9/12/2011.

Filed Date: 09/29/2011

Accession Number: 20110929-5062.

Comment Date: 5 p.m. Eastern Time on Thursday, October 20, 2011.

Docket Numbers: ER11-4688-000.

Applicants: Northeast Utilities Service Company, Western Massachusetts Electric Company.

Description: Northeast Utilities Service Company, on behalf of Western Massachusetts Electric Company Notification of Cancellation of Interconnection Operation and Maintenance Agreement between WMECO and MASSPOWER.

Filed Date: 09/29/2011.

Accession Number: 20110929-5066.

Comment Date: 5 p.m. Eastern Time on Thursday, October 20, 2011.

Docket Numbers: ER11-4689-000.

Applicants: Monarch Global Energy, Inc.

Description: Notice of Cancellation of Monarch Global Energy, Inc.

Filed Date: 09/29/2011.

Accession Number: 20110929-5068.

Comment Date: 5 p.m. Eastern Time on Thursday, October 20, 2011.

Docket Numbers: ER11-4690-000.

Applicants: Wisconsin Power and Light Company.

Description: Notice of Termination of Interconnection and Interchange Agreement between Northern States Power Companies and Wisconsin Power and Light Company.

Filed Date: 09/29/2011.

Accession Number: 20110929-5079.

Comment Date: 5 p.m. Eastern Time on Thursday, October 20, 2011.

Docket Numbers: ER11-4691-000.

Applicants: Icetec.com.

Description: Icetec.com submits tariff filing per 35.12: Icetec.com Baseline eTariff to be effective 9/30/2011.

Filed Date: 09/29/2011.

Accession Number: 20110929-5082.

Comment Date: 5 p.m. Eastern Time on Thursday, October 20, 2011.

Docket Numbers: ER11-4692-000.

Applicants: Vision Power Services, LLC.

Description: Vision Power Services, LLC submits tariff filing per 35.12: Vision Power Systems, LLC Baseline eTariff to be effective 9/30/2011.

Filed Date: 09/29/2011.

Accession Number: 20110929-5083.

Comment Date: 5 p.m. Eastern Time on Thursday, October 20, 2011.

Docket Numbers: ER11-4693-000.

Applicants: PJM Interconnection, LLC.

Description: PJM Interconnection, LLC submits tariff filing per 35.13(a)(2)(iii: Queue Position U1-059 & W1-056; Original Service Agreement Nos. 3071 & 3072 to be effective 8/30/2011.

Filed Date: 09/29/2011.

Accession Number: 20110929-5084.

Comment Date: 5 p.m. Eastern Time on Thursday, October 20, 2011.

Take notice that the Commission received the following electric securities filings:

Docket Numbers: ES11-52-000.

Applicants: PPL Electric Utilities Corporation.

Description: Application under section 204 of PPL Electric Utilities Corporation.

Filed Date: 09/29/2011.

Accession Number: 20110929-5063.

Comment Date: 5 p.m. Eastern Time on Thursday, October 20, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2011.
Nathaniel J. Davis, Sr.,
Deputy Secretary.

[FR Doc. 2011-26073 Filed 10-7-11; 8:45 am]

BILLING CODE 6717-01-P